DEPARTMENT OF THE INTERIOR

Bureau of Land Management

[WY-957-05-1910-BJ-5GKM]

Notice of Filing of Plats of Survey, Nebraska

AGENCY: Bureau of Land Management, Interior.

ACTION: Notice of filing of plats of survey, Nebraska.

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, Cheyenne, Wyoming 82009.

SUPPLEMENTARY INFORMATION: These surveys were executed at the request of the Bureau of Indian Affairs and are necessary for the management of these lands. The lands surveyed are:

The plat and field notes representing the dependent resurvey of portions of the east, west and north boundaries, and portions of the subdivisional lines, and the survey of the subdivision of certain sections, Township 31 North, Range 4 West, Sixth Principal Meridian, Nebraska, was accepted March 24, 2006.

The plat and field notes representing the dependent resurvey of portions of the west and north boundaries, and portions of the subdivisional lines, and the survey of the subdivision of certain sections, Township 31 North, Range 5 West, Sixth Principal Meridian, Nebraska, was accepted March 24, 2006.

The plat and field notes representing the dependent resurvey of the Eighth Standard Parrallel North, through Range 4 West, portions of the east and west boundaries, portions of the subdivisional lines, the subdivision of certain sections, and the metes and bounds survey of Parcel A, section 3, Township 32 North, Range 4 West, Sixth Principal Meridian, Nebraska, was accepted March 24, 2006.

Copies of the preceding described plats are available to the public.

Dated: March 27, 2006.
Charles I. Doman,
Acting Chief Cadastral Surveyor, Division of Support Services.

[FR Doc. E6-4952 Filed 4-5-06; 8:45 am]

BILLING CODE 4467-22-P